ENVIRONMENTAL PROTECTION AGENCY

[ER-FRL-9031-7]

Environmental Impact Statements; Notice of Availability

Responsible Agency: Office of Federal Activities, General Information (202) 564-7146 or http://www.epa.gov/nepa.

Weekly receipt of Environmental Impact Statements (EISs)

Filed 01/30/2017 Through 02/03/2017

Pursuant to 40 CFR 1506.9.

Notice: Section 309(a) of the Clean Air Act requires that EPA make public its comments on EISs issued by other Federal agencies. EPA's comment letters on EISs are available at: http://www.epa.gov/compliance/nepa/eisdata.html.

EIS No. 20170023, Draft Supplement, DOS, MN, Line 67 Expansion (previously known as the Alberta Clipper Pipeline), Comment Period Ends: 03/27/2017, Contact: Mary D. Hassell 202-736-7428.

EIS No. 20170024, Revised Final, USFS, SC, Francis Marion Forest Plan Revision, Review Period Ends: 03/13/2017, Contact: Mary Morrison 803-561-4058.

Amended Notices

EIS No. 20160311, Draft, USACE, NE., Missouri River Recovery Management Plan, Comment Period Ends: 04/24/2017, Contact: Aaron Quinn 402-995-2669, Revision to FR Notice Published 12/23/2016; Extending Comment Period from 2/24/2017 to 4/24/2017.

Dated: February 7, 2017.
Dawn Roberts,
Management Analyst, NEPA Compliance Division, Office of Federal Activities.

[FR Doc. 2017-02805 Filed 2-9-17; 8:45 am]

BILLING CODE 6560-50-P